DEPARTMENT OF THE INTERIOR

Office of Hearings and Appeals

43 CFR Part 4

RIN 1090-AA74

Special Rules Applicable to Surface Coal Mining Hearings and Appeals; Petitions for Award of Costs and Expenses Under Section 525(e) of the SMCRA

AGENCY: Office of Hearings and Appeals, Interior.

ACTION: Proposed rule; extension of comment period.

SUMMARY: This action extends the comment period an additional 30 days on the Department of the Interior's Office of Hearings and Appeals' proposal to amend its rules governing who may receive an award of costs and expenses, including attorney fees, under section 525(e) of the Surface Mining Control and Reclamation Act of 1977 (SMCRA). The proposed amendment provides that an applicant for a permit may only receive an award from the Office of Surface Mining Reclamation and Enforcement (OSM), if OSM denies an application in bad faith and for the purpose of harassing or embarrassing the applicant.

EFFECTIVE DATE: Comments are due to the agency by November 13, 2000.

ADDRESSES: Send written comments to Robert L. Baum, Director, Office of Hearings and Appeals, 4015 Wilson Boulevard, Room 1111, Arlington, VA 22203. Phone: 703-235-3750. Comments received will be made available for public inspection and copying during regular business hours (9 a.m. to 5 p.m.) In the Office of Hearings and Appeals, Director's office, 11th floor, 4015 Wilson Boulevard, Arlington, VA 22203. Person wishing to inspect comments are requested to call in advance at 703-235-3810 to make an appointment.

FOR FURTHER INFORMATION CONTACT: Will A. Irwin, Administrative Judge, Interior Board of Land Appeals, U.S. Department of the Interior, 4015 Wilson Boulevard, Arlington, VA 22203. Phone: 703-235-3750.

SUPPLEMENTARY INFORMATION: On July 28, 2000, the Office of Hearings and Appeals (OHA) published a proposed rule (65 FR 46389) amending 43 CFR 4.1294(b) and (c) to provide than an applicant for a permit from OSM is entitled to an award of costs and expenses from OSM only when circumstances demonstrate that OSM denied an application in bad faith and for the purpose of harassing or embarrassing the applicant. In a letter to the Director of OHA, dated August 15, 2000, the National Mining Association (NMA) requested a 45 day extension of the comment period for this proposed amendment because the existing comment period did not allow adequate opportunity to comment fully. The NMA also requested records related to the proposed amendment under the Freedom of Information Act. The FOIA response letter was issued on September 12, 2000.

The Director of OHA has determined that an extension of time to obtain the comments on the proposed rule is warranted and, therefore, a 30 day extension is granted. This notice announces that 30 day extension of the comment period.

Dated: October 4, 2000.
John Berry,
Assistant Secretary for Policy, Management and Budget.

[FR Doc. 00-26100 Filed 10-11-00; 8:45 am]

BILLING CODE 4310-BK-M